DEPARTMENT OF HEALTH AND HUMAN SERVICES

Centers for Disease Control and Prevention

[Program announcement 01026]

Notice of Availability of Funds; Cooperative Agreement With the Association of State and Territorial Health Officers To Improve the Nation's Public Health Infrastructure With State Public Health Agencies/Systems

A. Purpose

The Centers for Disease Control and Prevention (CDC) announces the availability of fiscal year (FY) 2001 funds for a cooperative agreement program entitled “Improving the Nation's Public Health Infrastructure.” This program addresses the “Healthy People 2010” priority focus area of Public Health Infrastructure. For a copy of “Healthy People 2010,” visit the web site at http://www.health.gov/healthypeople.

The purpose of this cooperative agreement program is to improve the Nation's public health infrastructure and improve the performance of public health agencies by:

1. Developing and/or implementing strategies to encourage the development and use of standards for public health organizations, the public health workforce, and public health information systems;

2. Developing and/or implementing strategies to inform the public health community about effective approaches to improving public health organizations, the public health workforce, and public health information systems; and

3. Conducting activities to encourage the public health community to implement the most effective approaches to improving public health organizations, the public health workforce, and public health information systems.

B. Eligible Applicant

Assistance will be provided only to the Association of State and Territorial Health Officials (ASTHO). No other applications are solicited. ASTHO is uniquely qualified to be the recipient organization for the following reasons:

1. ASTHO is the only organization representing the leading public health official in each of the fifty states, six territories, and the District of Columbia. Its mission is to formulate and influence sound national public health policy, and to assist state health departments in the development and implementation of state programs and policies to promote the public's health and prevent disease. It serves as the principal forum for public health leadership among the states.

2. Generally serving as the governors' appointees on public health, state health officials effect change and carry out public health policy on both state and national levels through direct dialogue with governors, other executive branch organizations, state congressional delegations, and representatives of federal agencies. State health officials bear primary public sector responsibility for the health and well-being of their citizens. They are the constitutional source of local government authority and can delegate broad powers over health matters to county and municipal governments. The key ingredients of this role include:

a. Providing statewide assessment, policy development, and assurance. It is the state's responsibility to see that functions and services necessary to address the mission of public health are in place throughout the state. This can be done by encouraging, providing assistance to, and/or requiring local governments or private providers to perform certain of these functions. The state may also elect to provide certain services directly;

b. Designating a lead agency for public health in the state (the place of ultimate responsibility) to fulfill the functions of assessment, policy development, and assurance. In most cases this will be the state health department, which has the obligation to ensure that important public health policy goals are being met, even when their implementation has been assigned to another entity.

3. ASTHO works closely with the:

a. National Governors' Association and other executive branch organizations (e.g., the Medicaid Directors Association, National Association of Insurance Commissioners, etc.);

b. Other public health organizations including the American Public Health Association, Partnership for Prevention, the National Association of County and City Health Officials (NACCHO), the National Association of Local Boards of Health (NALBOH), and the Public Health Foundation; and

c. A network of 16 ASTHO affiliated organizations. All ASTHO affiliated organizations, representing the views of division and program directors in the state health agencies, are members of five ASTHO policymaking committees.

Note: Public Law 104-65 states that an organization, described in section 501(c)(4) of the Internal Revenue Code of 1986, that engages in lobbying activities is not eligible to receive Federal funds constituting an award, grant, cooperative agreement, contract, loan, or any other form.

C. Availability of Funds

Approximately $696,234 is available in FY 2001 to fund this award. It is expected that the award will begin on or about June 1, 2001, and will be made for a 12-month budget period within a project period of up to five years. Funding estimates may change.

Continuation awards within an approved project period will be made on the basis of satisfactory progress as evidenced by required reports and the availability of funds.

During the first year, funds are expected to be available to support the projects/activities listed in Part D.1. below as follows:

1. Core Activities $100,000

2. Special Projects 1, 6, and 7 $105,433

3. Special Project 3 (info and communication systems) $162,000

4. Special Project 4 (leadership development) $71,801

5. Special Project 8 (genetics) $100,000

6. Special Project 10 (environmental health) $100,000

7. Special Project 11 (bioterrorism) $50,000

8. Special Project 12 (injury prevention and control) $7,000

Use of Funds

Funds may be spent for reasonable program purposes, including personnel, travel, supplies, and services. Equipment may be purchased, with appropriate justification, including cost comparison of purchase with lease. Although contracts with other organizations are allowable, ASTHO must perform a substantial portion of activities for which funds are requested. ASTHO may provide funds to its affiliated organizations to accomplish the purposes of the cooperative agreement, if justified. Cooperative agreement funds may not supplant existing funds from any other public or private source. Funds may not be expended for construction, renovation of existing facilities, or relocation of headquarters, affiliates, or personnel.

D. Where To Obtain Additional Information

To obtain additional business management information, contact: Juanita D. Crowder, Grants Management Specialist, Grants Management Branch, Procurement and Grants Office, Centers for Disease Control and Prevention, 2920 Brandywine Road, Room 3000, Atlanta, GA 30341-4146, Telephone number: 770-488-2734, E-Mail Address: jcrowder@cdc.gov.

To obtain additional programmatic information, contact: Anthony J. Santarsiero, Division of Public Health Systems Development and Research, Public Health Practice Program Office, Centers for Disease Control and Prevention, 4770 Buford Highway, N.E. (MailStop K-37), Atlanta, GA 30341-3717, Telephone: 770-488-2444, E-Mail: asantarsiero@cdc.gov.

Dated: March 29, 2001.
John L. Williams,
Director, Procurement and Grants Office, Centers for Disease Control and Prevention (CDC).

[FR Doc. 01-8227 Filed 4-3-01; 8:45 am]

BILLING CODE 4163-18-P